DEPARTMENT OF COMMERCE

International Trade Administration

[A-570-830]

Coumarin From the People's Republic of China: Rescission in Whole of Antidumping Duty Administrative Review

AGENCY: Import Administration, International Trade Administration, U.S. Department of Commerce.

SUMMARY: In response to a timely request from petitioner, the Department of Commerce (the Department) initiated an administrative review of the antidumping duty order on coumarin from the People's Republic of China (PRC). See Initiation of Antidumping and Countervailing Duty Administrative Reviews and Requests for Revocation in Part, 66 FR 16037 (March 22, 2001). This review covers one manufacturer/exporter of coumarin for the period from February 1, 2000 through January 31, 2001. Because petitioner has withdrawn its request for review, the Department is rescinding, in whole, its review of coumarin from the PRC in accordance with 19 CFR 351.213(d)(1).

EFFECTIVE DATE: September 28, 2001.

FOR FURTHER INFORMATION CONTACT: Elfi Blum or Abdelali Elouaradia, AD/CVD Enforcement Group III, Office 7, Import Administration, International Trade Administration, U.S. Department of Commerce, 14th Street and Constitution Avenue, NW., Washington, DC 20230; telephone (202) 482-0197 or (202) 482-1374, respectively.

Applicable Statute and Regulations

Unless otherwise indicated, all citations to the Tariff Act of 1930, as amended (“the Act”), are references to the provisions effective January 1, 1995, the effective date of the amendments made to the Act by the Uruguay Round Agreements Act. In addition, unless otherwise indicated, all citations to the Department's regulations are to the provisions codified at 19 CFR part 351 (2000).

SUPPLEMENTARY INFORMATION:

Background

The Department published in the Federal Register the antidumping duty order on coumarin from the PRC on February 9, 1995. See Notice of Antidumping Order: Coumarin From the People's Republic of China, 60 FR 7751 (February 9, 1995). The Department received a timely request from petitioner, Rhodia Inc., to conduct an administrative review pursuant to § 351.213(b) of the Department's regulations. On March 22, 2001, the Department initiated an administrative review covering one manufacturer/exporter of coumarin from the PRC, Jiangsu Native Produce Import & Export Corp., Ltd. (Jiangsu). See Initiation of Antidumping and Countervailing Duty Administrative Reviews and Requests for Revocations in Part, 66 FR 16037 (March 22, 2001).

On June 20, 2001, petitioner timely withdrew its request for an administrative review of coumarin from the PRC for Jiangsu.

Rescission, in Whole, of Antidumping Duty Administrative Review of Coumarin

Pursuant to our regulations, the Department will rescind an administrative review, “if a party that requested the review withdraws the request within 90 days of the date of publication of notice of initiation of the requested review.” See 19 CFR 351.213(d)(1). This section further provides that the Secretary may extend this time limit if the Secretary decides that it is reasonable to do so. See 19 CFR 351.213(d)(1). In this case, petitioner's withdrawal of its request for review was within the 90-day time limit. No other party requested a review of this order. Therefore, we are rescinding the administrative review of coumarin for the period February 1, 2000 through January 31, 2001. See Memorandum for the File through Barbara Tillman, Director, from Elfi Blum, Case Analyst: Coumarin from the People's Republic of China; Rescission of Antidumping Administrative Review. The Department will issue appropriate assessment instructions to the U.S. Customs Service (Customs).

This notice serves as a reminder to parties subject to administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

This determination and notice are issued and published in accordance with 19 CFR 351.213(d)(4) and sections 751(a)(1) and 777(i)(1) of the Act.

Dated: September 24, 2001.
Joseph A. Spetrini,
Deputy Assistant Secretary, AD/CVD Enforcement Group III.

[FR Doc. 01-24408 Filed 9-27-01; 8:45 am]

BILLING CODE 3510-DS-P